DEPARTMENT OF COMMERCE

Foreign-Trade Zones Board

[Docket 17-2006]

Foreign-Trade Subzone 29F - Harrodsburg, KY, Hitachi Automotive Products (USA), Inc., Removal of Restriction (Automotive Components)

A application has been submitted to the Foreign-Trade Zones Board (the Board) by Hitachi Automotive Products, Inc. (HAP), operator of Subzone 29F, at the HAP automotive components manufacturing plant in Harrodsburg, Kentucky, requesting removal of the restriction pursuant to Board Order 497. It was formally filed on April 28, 2006.

Subzone 29F was approved by the Board in 1990 with authority granted for the manufacture of automotive components under FTZ procedures for the U.S. market and export (Board Order 497, 56 FR 674, 1-8-91). The manufacturing authority was approved with a restriction requiring that privileged foreign status (19 CFR 146.41) must be elected on all foreign-origin merchandise admitted to the subzone for use in the manufacture of automotive components, except for merchandise that is used in the manufacture of high-tech, electronic automotive components, such as control units, electronic throttle bodies, and mass air sensors. The restriction precludes inverted tariff benefits on foreign-origin merchandise used to manufacture standard, commodity-type components (e.g., starters, alternators, pressure sensors) for the U.S. market.

HAP is now requesting that the Board remove the restriction requiring that foreign-origin merchandise must be admitted to the subzone under privileged foreign status when such merchandise is to be used in the manufacture of standard, commodity-type products. The commodity-type automotive components subject to unrestricted FTZ benefits would include: Hydraulic pumps, fuel injection pumps, filters, catalytic converters, valves and actuators, motors, inverters, ignition coils, starters, generators, voltage regulators, transistors, conductors, thermistors, carbon brushes, integrated circuits, relay boxes, terminal covers, and wiring sets (duty rate range: free - 4.4%). Foreign-origin material inputs comprise approximately 80 percent of HAP's finished automotive components' material value and include: adhesives, plastic fittings, plastic and rubber belts, fasteners, gaskets/seals/o-rings, metal fittings, labels, plastic wedging, springs, brackets, plates, filters, bearings, air pumps/compressors, valves, switches, electric motors, tubes/pipes/profiles, aluminum plugs, transformers, crankshafts, camshafts, gears, pulleys, couplings, clutches, parts of electric motors, pinions, magnets, ignition parts, diodes, transistors, semiconductors, liquid crystal devices, electrical instruments, television cameras, navigation apparatus, capacitors, resistors, printed/integrated circuits, fuses, rheostats, connectors, terminals, piezoelectric crystals, regulators, lamps, wires, cables, insulators, brushes, steering wheels, hubs, brackets, shafts, and measuring instruments (duty rate range: free - 8.6%).

FTZ procedures exempt HAP from Customs duty payments on the foreign component inputs used in production for export to non-NAFTA countries. On its domestic shipments and exports to NAFTA markets, the company would be able to elect the duty rate that applies to finished automotive components (2.5%) for the foreign inputs within the finished commodity-type automotive components. On the finished, commodity-type components shipped from the HAP plant in-bond to U.S. light vehicle auto assembly plants with subzone status, no duties would be paid on the foreign-origin inputs until the finished vehicles are formally entered for consumption, at which time the automobile duty rate (2.5%) would be applied to the foreign-origin inputs. The request indicates that the savings from FTZ procedures will continue to help improve the HAP facility's international competitiveness. In accordance with the Board's regulations, a member of the FTZ Staff has been designated examiner to investigate the application and report to the Board.

Public comment is invited from interested parties. Submissions (original and 3 copies) shall be addressed to the Board's Executive Secretary at the address below. The closing period for their receipt is July 10, 2006. Rebuttal comments in response to material submitted during the foregoing period may be submitted during the subsequent 15-day period to July 24, 2006.

A copy of the application and accompanying exhibits will be available for public inspection at each of the following locations: U.S. Department of Commerce Export Assistance Center, Room 634B, 601 West Broadway, Louisville, Kentucky 40202; and, Office of the Executive Secretary, Foreign-Trade Zones Board, Room 1115, U.S. Department of Commerce, 1401 Constitution Avenue, NW., Washington, District of Columbia 20230-0002; Tel: (202) 482-2862.

Dated: April 28, 2006.
Dennis Puccinelli,
Executive Secretary.

[FR Doc. E6-7053 Filed 5-8-06; 8:45 am]

BILLING CODE 3510-DS-S